DEPARTMENT OF TRANSPORTATION

Federal Aviation Administration

Notice of Intent To Rule on Application To Impose and Use the Revenue From a Passenger Facility Charge (PFC) at Inyokern Airport, Inyokern, CA

AGENCY: Federal Aviation Administration (FAA), DOT.

ACTION: Notice of intent of rule on application.

SUMMARY: The FAA proposes to rule and invites public comment on the application to impose and use the revenue from a PFC at Inyokern Airport under the provisions of the Aviation Safety and Capacity Expansion Act of 1990 (Title IX of the Omnibus Budget Reconciliation Act of 1990) (Public Law 101-508) and Part 158 of the Federal Aviation Regulations (14 CFR part 158).

DATES: Comments must be received on or before January 23, 2004.

ADDRESSES: Comments on this application may be mailed or delivered in triplicate to the FAA at the following address: Federal Aviation Administration, Airports Division, 15000 Aviation Bldv., Room 3024, Lawndale, CA 90261. In addition, one copy of any comments submitted to the FAA must be mailed or delivered to Ms. Nancy Bass, General Manager, Inyokern Airport at the following address: P.O. Box 634, Inyokern, CA 93527. Air carriers and foreign air carriers may submit copies of written comments previously provided to the Indian Wells Valley Airport District under section 158.23 of part 158.

FOR FURTHER INFORMATION CONTACT: Mr. David Delshad, Airports Program Engineer, Standards Section, Airports Division, 15000 Aviation Blvd., Room 3024, Lawndale, CA 90261. Telephone: (310) 725-3627. The application may be reviewed in person at this same location.

SUPPLEMENTARY INFORMATION: The FAA proposes to rule and invites public comment on the application to impose and use the revenue from a PFC at Inyokern Airport under the provisions of the Aviation Safety and Capacity Expansion Act of 1990 (Title IX of the Omnibus Budget Reconciliation Act of 1990) (Public Law 101-508) and Part 158 of the Federal Aviation Regulations (14 CFR part 158).

On November 19, 2003, the FAA determined that the application to impose and use the revenue from a PFC submitted by the Indian Wells Valley Airport District was substantially complete within the requirements of section 158.25 of Part 158. The FAA will approve or disapprove the application, in whole or in part, no later than February 25, 2004.

The following is a brief overview of the impose and use application No. 04-04-C-00-IYK:

Level of proposed PFC: $3.00.

Proposed charge effective date: March 1, 2004.

Proposed charge expiration date: September 1, 2004.

Total estimated PFC revenue: $36,183.

Brief Description of the proposed project: Install access gates.

Class or classes of air carriers which the public agency has requested not be required to collect PFCs: Pacific States Aviation and other small certificated air taxi carriers not providing scheduled service to Inyokern Airport.

Any person may inspect the application in person at the FAA office listed above under FOR FURTHER INFORMATION CONTACT. In addition, any person may, upon request, inspect the application, notice and other documents germane to the application in person at Inyokern Airport Administration office.

Issued in Lawndale, California, on November 19, 2003.
Ellsworth Chan,
Acting Manager, Airports Division, Western-Pacific Region.

[FR Doc. 03-31745 Filed 12-23-03; 8:45 am]

BILLING CODE 4910-13-M